DEPARTMENT OF VETERANS AFFAIRS

[OMB Control No. 2900-0799]

Agency Information Collection Activity: Casket and Urn Reimbursement

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each new collection and allow 60 days for public comment in response to the notice. This notice solicits comments on the information needed that implements statutory authority for NCA to provide reimbursement for the purchase of caskets and urns for the interment of the remains of Veterans without next of kin (NOK) or sufficient resources available for burial.

DATES: Written comments and recommendations on the proposed collection of information should be received on or before May 11, 2020.

ADDRESSES: Submit written comments on the collection of information through Federal Docket Management System (FDMS) at www.Regulations.gov or the National Cemetery Administration (42E), Department of Veterans Affairs, 810 Vermont Avenue NW, Washington, DC 20420 or email to NCA42EACTION@va.gov. Please refer to “OMB Control No. 2900-0799” in any correspondence. During the comment period, comments may be viewed online through FDMS.

FOR FURTHER INFORMATION CONTACT: Cynnthia.harvey-pryor@va.gov at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Casket/Urn Reimbursement, VA Form 40-10088.

OMB Control Number: 2900-0799.

Type of Review: Reinstatement of a previously approved collection.

Abstract: The Department of Veterans Affairs, National Cemetery Administration has established VA regulations to implement statutory authority for NCA to provide reimbursement for the purchase of caskets and urns for the interment of the remains of Veterans without next of kin and sufficient resources available for burial.

Affected Public: Federal Government and Community Social Services.

Estimated Annual Burden: 74 hours.

Estimated Average Burden per Respondent: 10 minutes.

Frequency of Response: Once.

Estimated Number of Respondents: 445.

By direction of the Secretary.
Danny S. Green,
VA PRA Clearance Officer, Office of Quality, Peformance and Risk, Department of Veterans Affairs.

[FR Doc. 2020-04921 Filed 3-10-20; 8:45 am]

BILLING CODE 8320-01-P